DEPARTMENT OF ENERGY

Federal Energy Regulatory Commission

[Project No. 13629-002]

Notice of Effectiveness of Withdrawal of License Application: Coleman Hydro LLC

On April 22, 2011, Coleman Hydro LLC (Coleman) filed a license application for an original minor license to construct and operate its proposed Coleman Hydroelectric Project No. 13629. The Commission issued a notice on April 1, 2019 that informed Coleman that its proposed LTC Hydro Project located at the same proposed site meets the qualifying conduit hydropower facility criteria and to withdraw its pending license application if it intends to pursue the project as a qualifying conduit hydropower facility. On April 9, 2019, Coleman filed a letter informing the Commission that it was withdrawing its minor license application for the project.

No motion in opposition to the notice of withdrawal has been filed, and the Commission has taken no action to disallow the withdrawal. Pursuant to Rule 216(b) of the Commission's Rules of Practice and Procedure, the withdrawal of the application became effective on April 24, 2019 and this proceeding is hereby terminated.¹

¹ 18 CFR 385.216(b) (2018).

Dated: April 26, 2019.
Nathaniel J. Davis, Sr.,
Deputy Secretary.

[FR Doc. 2019-08907 Filed 5-1-19; 8:45 am]

BILLING CODE 6717-01-P